DEPARTMENT OF COMMERCE

International Trade Administration

[C-533-839]

Carbazole Violet Pigment 23 From India: Preliminary Results of Countervailing Duty New Shipper Review; 2022

AGENCY: Enforcement and Compliance, International Trade Administration, Department of Commerce.

SUMMARY: The U.S. Department of Commerce (Commerce) is conducting a new shipper review (NSR) of Sudarshan Chemical Industries Limited (Sudarshan) regarding the countervailing duty (CVD) order on carbazole violet pigment 23 (CVP-23) from India. We preliminarily determine that countervailable subsidies were provided to Sudarshan with respect to the production and export of CVP-23 from India for the period of review (POR), January 1, 2022, through December 31, 2022. Interested parties are invited to comment on these preliminary results.

DATES: Applicable May 28, 2024.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On December 29, 2004, Commerce published in the Federal Register the CVD order on CVP-23 from India.¹ On August 2, 2023, Commerce initiated an NSR based on a timely request from Sudarshan.² For a complete description of the events that followed since the initiation of this NSR, see the Preliminary Decision Memorandum.³ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ See Notice of Countervailing Duty Order: Carbazole Violet Pigment 23 from India, 69 FR 77995 (December 29, 2004) (Order).

² See Carbazole Violet Pigment 23 from India: Initiation of Countervailing Duty New Shipper Review, 88 FR 50839 (August 2, 2023).

³ See Memorandum, “Decision Memorandum for the Preliminary Results of New Shipper Review of the Countervailing Duty Order on Carbazole Violet Pigment 23 from India; 2022,” dated concurrently with, and hereby adopted by, this notice (Preliminary Decision Memorandum).

Scope of the Order

The product covered by the Order is CVP-23. For a complete description of the scope of the Order, see the Preliminary Decision Memorandum.

Methodology

Commerce is conducting this NSR in accordance with section 751(a)(2)(B) of the Tariff Act of 1930, as amended (the Act), and 19 CFR 351.214. For a full description of the methodology underlying our conclusions, see the Preliminary Decision Memorandum.

Verification

As provided in 19 CFR 351.307(b)(iv), Commerce intends to verify information submitted by Sudarshan in advance of the final results of this NSR.

Preliminary Results

As a result of this NSR, Commerce preliminarily determines the following net subsidy rate exists for the period January 1, 2022, through December 31, 2022:

Company | Subsidy rate (percent ad valorem)
Sudarshan Chemical Industries Limited | 8.98

Cash Deposit Requirements

In accordance with section 751(a)(2)(C) of the Act, Commerce intends, upon publication of the final results, to instruct Customs and Border Protection (CBP) to collect cash deposits of estimated countervailing duties in the amounts calculated in the final results of this review for the company listed above, on shipments of subject merchandise entered, or withdrawn from warehouse, for consumption on or after the date of publication of the final results of this new shipper review. If the rate calculated in the final results is zero or de minimis, no cash deposit will be required on shipments of the subject merchandise entered or withdrawn from warehouse, for consumption on or after the date of publication of the final results of this new shipper review, with respect to the company listed above. These cash deposit requirements, when imposed, shall remain in effect until further notice.

Assessment Rates

In accordance with 19 CFR 351.212(b)(2), upon issuance of the final results of this new shipper review, Commerce shall determine, and CBP shall assess, countervailing duties on all appropriate entries covered by this review.

Disclosure and Public Comment

Commerce intends to disclose its calculations and analysis performed to interested parties for these preliminary results within five days of any public announcement or, if there is no public announcement, within five days of the date of publication of this notice in accordance with 19 CFR 351.224(b).

Pursuant to 19 CFR 351.309(c)(1)(ii), interested parties may submit case briefs no later than seven days after Commerce files its verification report regarding Sudarshan. Rebuttal briefs, limited to issues raised in the case briefs, may be filed no later than seven days after the date for filing case briefs.⁴ Parties who submit case or rebuttal briefs in this proceeding are encouraged to submit with each argument: (1) a table of contents listing each issue; and (2) a table of authorities.⁵

⁴ See 19 CFR 351.309(d).

⁵ See 19 CFR 351.309(c)(2) and (d)(2).

As provided under 19 CFR 351.309(c)(2) and (d)(2), in prior proceedings we have encouraged interested parties to provide an executive summary of their briefs that should be limited to five pages total, including footnotes. In this NSR, we instead request that interested parties provide at the beginning of their briefs a public, executive summary for each issue raised in their briefs.⁶ Further, we request that interested parties limit their public executive summary of each issue to no more than 450 words, not including citations. We intend to use the public executive summaries as the basis of the comment summaries included in the issues and decision memorandum that will accompany the final results of this NSR. We request that interested parties include footnotes for relevant citations in the public executive summary of each issue. Note that Commerce has amended certain of its requirements pertaining to the service of documents in 19 CFR 351.303(f).⁷

⁶ We use the term “issue” here to describe an argument that Commerce would normally address in a comment of the Issues and Decision Memorandum.

⁷ See Administrative Protective Order, Service, and Other Procedures in Antidumping and Countervailing Duty Proceedings, 88 FR 67069, 67007 (September 29, 2023).

Pursuant to 19 CFR 351.310(c), interested parties who wish to request a hearing, limited to issues raised in the case and rebuttal briefs, must submit a written request to the Assistant Secretary for Enforcement and Compliance, filed electronically via ACCESS. An electronically filed document must be received successfully in its entirety by Commerce's electronic records system, ACCESS, by 5:00 p.m. Eastern Time within 30 days after the date of publication of this notice.⁸ Requests should contain: (1) the party's name, address, and telephone number; (2) the number of participants and whether any party is a foreign national; and (3) a list of issues to be discussed. If a request for a hearing is made, we will inform parties of the scheduled date and time for the hearing.

⁸ See 19 CFR 351.310(c).

Final Results

Unless extended, Commerce intends to issue the final results of this NSR, which will include the results of our analysis of the issues raised in case and rebuttal briefs, within 90 days after the date of publication of these preliminary results, pursuant to section 751(a)(2)(B)(iv) of the Act and 19 CFR 351.214(i)(2).

Notification to Interested Parties

These preliminary results and notice are issued and published in accordance with sections 751(a)(2)(B) and 777(i)(1) of the Act and 19 CFR 351.214.

Dated: May 20, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Diversification of India's Economy

V. Subsidies Valuation Information

VI. Interest Rate Benchmarks

VII. Bona Fide Analysis

VIII. Analysis of Programs

IX. Recommendation

[FR Doc. 2024-11659 Filed 5-24-24; 8:45 am]

BILLING CODE 3510-DS-P